DEPARTMENT OF ENERGY

Federal Energy Regulatory Commission

[Docket No. AD19-16-000]

Common Performance Metrics; Request for Information on Performance Metrics for ISOs, RTOs, and Regions Outside ISOs and RTOs

On April 21, 2020, the Office of Management and Budget (OMB) approved the Federal Energy Regulatory Commission (Commission or FERC) staff's request for reinstatement and revision of the FERC-922 (Performance Metrics for ISOs, RTOs, and Regions Outside ISOs and RTOs, OMB Control No. 1902-0262) information collection, as discussed in Docket No. AD19-16-000. Consistent with the OMB-approved information collection, ISOs, RTOs, and utilities in regions outside ISOs and RTOs are encouraged to submit responsive information by October 30, 2020.¹

¹ In the OMB request for reinstatement and revision of the FERC-922 information collection, Commission staff indicated that respondents would be given 90 days to submit responses to the information collection. However, given the emergency conditions caused by the Novel Coronavirus Disease (COVID-19), there is good cause to extend the deadline for submitting responses to this information collection an additional 60 days.

Respondents should submit their responses in Docket No. AD19-16-000 via the Commission's electronic filing (eFiling) system.² Submissions should be made using the OMB-approved Information Collection Input Spreadsheet (Excel workbook) and the associated Common Metrics Information Collection User Guide.³

² More information on the Commission's eFiling system is posted at: https://www.ferc.gov/docs-filing/efiling.asp. All submissions to the Commission must be formatted and filed in accordance with submission guidelines described at: http://www.ferc.gov/help/submission-guide.asp.

³ Links to the approved Information Collection Input Spreadsheet (Excel workbook) and the Common Metrics Information Collection User Guide can be found at: http://www.ferc.gov/industries/electric/indus-act/rto/rto-iso-performance.asp.

For further information, please contact: Darren Sheets, Office of Energy Policy and Innovation, Federal Energy Regulatory Commission, 888 First Street NE, Washington, DC 20426,

(202) 502-8742, Darren.Sheets@FERC.gov.

Dated: May 27, 2020.
Kimberly D. Bose,
Secretary.

[FR Doc. 2020-11872 Filed 6-1-20; 8:45 am]

BILLING CODE 6717-01-P